DEPARTMENT OF TRANSPORTATION

Federal Aviation Administration

14 CFR Part 39

[Docket No. FAA-2015-3149; Directorate Identifier 2015-NM-014-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200, -200 Freighter, and -300 series airplanes; and all Airbus Model A340-200, -300, -500, and -600 series airplanes. This proposed AD was prompted by reports of premature aging of certain chemical oxygen generators in the passenger compartment that resulted in failure of the generators to activate. This proposed AD would require inspecting to determine if certain passenger chemical oxygen generators are installed, and replacement of affected generators. We are proposing this AD to prevent failure of the chemical oxygen generator to activate during an emergency situation, which could result in unavailability of oxygen and possible incapacitation of the occupants.

DATES: We must receive comments on this proposed AD by October 15, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

For B/E Aerospace service information identified in this proposed AD, contact B/E Aerospace Inc., 10800 Pflumm Road, Lenexa, KS 66215; telephone 913-338-9800; fax 913-469-8419; Internet http://beaerospace.com/home/globalsupport.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-3149; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-3149; Directorate Identifier 2015-NM-014-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2015-0119, dated June 24, 2015 (referred to after this as the Mandatory Continuing Airworthiness Information, or “the MCAI”), to correct an unsafe condition for all Airbus Model A330-200, -200 Freighter, and -300 series airplanes; and Model A340-200, -300, -500, and -600 series airplanes. The MCAI states:

Reports have been received indicating premature ageing of certain passenger chemical oxygen generators, Part Number (P/N) 1170242-XX, manufactured by B/E Aerospace. Some operators reported that when they tried to activate generators, some older units failed to activate. Given the number of failed units reported, all the generators manufactured in 1999, 2000, and 2001 must be considered unreliable.

This condition, if not corrected, could lead to failure of the generator to activate and consequently not deliver oxygen during an emergency, possibly resulting in injury to aeroplane occupants.

To address this potential unsafe condition, Airbus issued Alert Operators Transmission (AOT) A35L007-14, making reference to B/E Aerospace Service Information Letter (SIL) D1019-01 (currently at Revision 1) and B/E Aerospace Service Bulletin (SB) 117042-35-001. Consequently, EASA issued AD 2014-0277 to require identification and replacement of the affected oxygen generators.

Since EASA AD 2014-0277 was issued, and following new investigation results, EASA has decided to introduce a life limitation concerning all P/N 117042-XX chemical oxygen generators, manufactured by B/E Aerospace.

For the reason described above, this EASA AD retains the requirements of EASA AD 2014-0277, which is superseded, expands the scope of the AD to include chemical oxygen generators manufactured after 2001, and requires their removal from service before exceeding 10 years since date of manufacture.

You may examine the MCAI in the AD docket on the Internet at http://www.regulations.gov by searching for and locating Docket No. FAA-2015-3149.

Related Service Information Under 1 CFR Part 51

Airbus has issued Alert Operators Transmission (AOT) A35L007-14, Revision 01, June 17, 2015; including Appendix A. B/E Aerospace has issued Service Bulletin 117042-35-001, dated December 10, 2014. The service information describes procedures for inspecting to determine if certain passenger chemical oxygen generators are installed, and replacing affected generators. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 91 airplanes of U.S. registry.

Estimated Costs
Action | Labor cost | Parts cost | Cost per product | Cost on U.S. operators
Inspection | 1 work-hour × $85 per hour = $85 | $0 | $85 | $7,735.
Replacement | 1 work hour × $85 per hour = $85 | $1,000 per oxygen generator | $1,085 per oxygen generator | $98,735 for one oxygen generator.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-3149; Directorate Identifier 2015-NM-014-AD.

(a) Comments Due Date

We must receive comments by October 15, 2015.

(b) Affected ADs

None.

(c) Applicability

This AD applies to the airplanes, certificated in any category, identified in paragraphs (c)(1) and (c)(2) of this AD, all manufacturer serial numbers.

(1) Airbus Model A330-201, -202, -203, -223, -223F, -243, -243F, -301, -302, -303, -321, -322, -323, -341, -342, and -343 airplanes.

(2) Airbus Model A340-211, -212, -213, -311, -312, -313, -541, and -642 airplanes; except those on which a gaseous system for all oxygen generators is installed.

(d) Subject

Air Transport Association (ATA) of America Code 35, Oxygen.

(e) Reason

This AD was prompted by reports of premature aging of certain chemical oxygen generators in the passenger compartment that resulted in failure of the generators to activate. We are issuing this AD to prevent failure of the chemical oxygen generator to activate during an emergency situation, which could result in unavailability of oxygen and possible incapacitation of the occupants.

(f) Compliance

Comply with this AD within the compliance times specified, unless already done.

(g) Inspection

Within 30 days after the effective date of this AD: Inspect each passenger chemical oxygen generator to identify the date of manufacture (refer to Figures 1 and 2 of paragraph (g) of this AD for the location of the date) of each passenger chemical oxygen generator having any part number (P/N) listed in paragraphs (g)(1) through (g)(6) of this AD, in accordance with the Instructions of Airbus Alert Operators Transmission (AOT) A35L007-14, Revision 01, June 17, 2015; including Appendix A. A review of airplane maintenance records is acceptable in lieu of this identification if the date of manufacture of the generator can be conclusively determined from that review.

(1) 117042-02 (15minutes (min)—2 masks).

(2) 117042-03 (15 min—3 masks).

(3) 117042-04 (15 min—4 masks).

(4) 117042-22 (22 min—2 masks).

(5) 117042-23 (22 min—3 masks).

(6) 117042-24 (22 min—4 masks).

(h) Replacement of Pre-2002 Passenger Oxygen Generators

If, during any inspection required by paragraph (g) of this AD, any passenger chemical oxygen generator having a date of manufacture of 1999, 2000, or 2001 is found: At the time specified in paragraph (h)(1), (h)(2), or (h)(3) of this AD, as applicable, replace the affected passenger chemical oxygen generator, in accordance with the Instructions of Airbus AOT A35L007-14, Revision 01, June 17, 2015; including Appendix A (for 15 and 22-minute passenger chemical oxygen generators); or in accordance with the Accomplishment Instructions of B/E Aerospace Service Bulletin 117042-35-001, dated December 10, 2014 (for 15-minute passenger chemical oxygen generators).

(1) For units manufactured in 1999: Within 30 days after the effective date of this AD.

(2) For units manufactured in 2000: Within 6 months after the effective date of this AD.

(3) For units manufactured in 2001: Within 12 months after the effective date of this AD.

(i) Replacement of 2002 Through 2009 Passenger Oxygen Generators

If, during any inspection required by paragraph (g) of this AD, any passenger chemical oxygen generator having a date of manufacture of 2002 through 2008 is found: At the time specified in paragraph (i)(1), (i)(2), (i)(3), (i)(4), (i)(5), (i)(6), (i)(7), or (i)(8) of this AD, as applicable, replace the affected passenger chemical oxygen generator with a serviceable unit, in accordance with the Instructions of Airbus AOT A35L007-14, Revision 01, June 17, 2015; including Appendix A (for 15 and 22-minute passenger chemical oxygen generators); or in accordance with the Accomplishment Instructions of B/E Aerospace Service Bulletin 117042-35-001, dated December 10, 2014 (for 15-minute passenger chemical oxygen generators).

(1) For units manufactured in 2002: Within 12 months after the effective date of this AD.

(2) For units manufactured in 2003: Within 16 months after the effective date of this AD.

(3) For units manufactured in 2004: Within 20 months after the effective date of this AD.

(4) For units manufactured in 2005: Within 24 months after the effective date of this AD.

(5) For units manufactured in 2006: Within 28 months after the effective date of this AD.

(6) For units manufactured in 2007: Within 32 months after the effective date of this AD.

(7) For units manufactured in 2008: Within 36 months after the effective date of this AD.

(8) For units manufactured in 2009 or later: Before the accumulation of 10 years since date of manufacture.

(j) Definition of a Serviceable Unit

A serviceable unit is an oxygen generator having P/N 117042-XX, with a manufacturing date not older than 10 years, or any other FAA-approved P/N, provided that the generator has not exceeded the life limit established by the manufacturer for that generator.

(k) Credit for Previous Actions

This paragraph provides credit for the applicable actions required by paragraphs (g), (h), and (i) of this AD, if those actions were performed before the effective date of this AD using Airbus AOT A35L007-14, dated December 18, 2014, including Appendix A.

(l) Parts Installation Limitation

As of the effective date of this AD, no person may install a passenger chemical oxygen generator on any airplane, unless the passenger chemical oxygen generator is determined to be a serviceable unit, as defined in paragraph (j) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425- 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(n) Related Information

(1) Refer to Mandatory Continuing Airworthiness Information (MCAI) EASA Airworthiness Directive 2015-0119, dated June 24, 2015, for related information. This MCAI may be found in the AD docket on the Internet at http://www.regulations.gov by searching for and locating Docket No. FAA-2015-3149.

(2) For Airbus service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(3) For B/E Aerospace service information identified in this proposed AD, contact B/E Aerospace Inc., 10800 Pflumm Road, Lenexa, KS 66215; telephone 913-338-9800; fax 913-469-8419; Internet http://beaerospace.com/home/globalsupport.

(4) You may view this service information at the FAA, Transport Airplane Directorate, 1601 Lind Avenue SW., Renton, WA. For information on the availability of this material at the FAA, call 425-227-1221.

Issued in Renton, Washington, on August 21, 2015.
Kevin Hull,
Acting Manager, Transport Airplane Directorate, Aircraft Certification Service.

[FR Doc. 2015-21428 Filed 8-28-15; 8:45 am]

BILLING CODE 4910-13-P